DEPARTMENT OF THE INTERIOR

Bureau of Reclamation

[INT-DES-04-3]

Platte River Recovery Implementation Program (Program)

AGENCY: Bureau of Reclamation, Interior.

ACTION: Notice of public hearings on a draft environmental impact statement (DEIS).

SUMMARY: Pursuant to the National Environmental Policy Act of 1969, as amended, the Bureau of Reclamation and the U.S. Fish and Wildlife Service have prepared a DEIS for the Platte River Recovery Implementation Program. At the public hearings, individuals will have the opportunity to present written or short oral testimony on the environmental impacts of the Program. All testimony will be addressed in the Final Environmental Impact Statement (EIS) as part of the comment and response process.

DATES: The following public hearings are scheduled from 7 to 10 p.m.:

• July 26, 2004, Saratoga, Wyoming

• July 27, 2004, Casper, Wyoming

• July 28, 2004, Torrington, Wyoming

• July 29, 2004, Gering, Nebraska

• August 2, 2004, Kearney, Nebraska

• August 3, 2004, Lincoln, Nebraska

• August 4, 2004, Sterling, Colorado

• August 9, 2004, Berthoud, Colorado

• August 10, Denver, Colorado

There will be an additional public hearing from 3 to 6 p.m.:

• August 2, 2004, Kearney, Nebraska

Written comments can also be sent to the Platte River EIS Office until August 20, 2004.

ADDRESSES: The hearings will be held at:

• Riviera Lodge, 104 East Saratoga Street, Saratoga, Wyoming;

• Holiday Inn, 300 West F Street, Casper, Wyoming;

• Holiday Inn, 1700 E. Valley Road, Torrington, Wyoming;

• Gering Civic Center, 1050 M Street, Gering, Nebraska;

• Holiday Inn, 110 S. 2nd Avenue, Kearney, Nebraska (both meetings);

• Holiday Inn, 141 N. 9th Street, Lincoln, Nebraska;

• Ramada Inn, I-76 & Hwy. 6, Sterling, Colorado;

• Northern Colorado Water Conservancy, 220 Water Avenue, Berthoud, Colorado

• Holiday Inn, 120th & I-25, Denver, Colorado.

Written comments are to be submitted to the Bureau of Reclamation, Platte River EIS Office (PL-100), PO Box 25007, Denver, Colorado, 80225-0007, or by e-mail at platte@prs.usbr.gov.

FOR FURTHER INFORMATION, CONTACT: Lynn Holt, Platte River EIS Office at the above address, or by telephone at (303) 445-2096, or e-mail at platte@prs.usbr.gov.

SUPPLEMENTARY INFORMATION: Organizations and individuals wishing to present statements at the hearings should contact the Bureau of Reclamation, Platte River EIS Office, to announce their intention to participate.

Oral comments at the hearings will be limited to 3-5 minutes, depending upon the number of persons wishing to speak. The hearing facilitator may allow any speaker to provide additional oral comments after all persons wishing to comment have been heard.

Written comments from those unable to attend or those wishing to supplement their oral presentations at the hearings should be received by Reclamation's Platte River EIS Office at the above address by August 20, 2004, for inclusion in the meeting notes.

Public Disclosure Statement

Comments received in response to this notice will become part of the administrative record for this project and are subject to public inspection. Our practice is to make comments, including names and home addresses of respondents, available for public review. Individual respondents may request that Reclamation withhold their home address from public disclosure, which will be honored to the extent allowable by law. There also may be circumstances in which Reclamation would withhold a respondent's identify from public disclosure, as allowable by law. If you wish to have your name and/or address withheld, you must state this prominently at the beginning of your comment. Reclamation will make all submissions from organizations or businesses and from individuals identifying themselves as representatives or officials of organizations or businesses available for public disclosure in their entirety.

Dated: June 17, 2004.
Mary Josie Blanchard,
Deputy Director, Environmental Policy & Compliance.

[FR Doc. 04-14857 Filed 7-1-04; 8:45 am]

BILLING CODE 4310-MN-P